DEPARTMENT OF HEALTH AND HUMAN SERVICES

Centers for Disease Control and Prevention

[30Day-05-0445]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 371-5983 or send an e-mail to omb@cdc.gov. Send written comments to CDC Desk Officer, Office of Management and Budget, Washington, DC or by fax to (202) 395-6974. Written comments should be received within 30 days of this notice.

Proposed Project

School Health Policies and Programs 2006, OMB No. 0920-0445—Reinstatement with Change—National Center for Chronic Disease Prevention and Health Promotion (NCCDPHP), Centers for Disease Control and Prevention (CDC).

Background and Brief Description

CDC intends to continue to conduct the School Health Policies and Programs Study (SHPPS) in 2006. SHPPS is a national study of school health policies and programs at the state, district, school, and course levels. Much of the information collected will expand upon data gathered from the SHPPS 1994 (OMB No. 0920-0340, expiration date 1/31/95) and 2000 (OMB No. 0920-0445, expiration date 10/31/2002).

Modifications were made to the SHPPS 2000 survey to improve the clarity of items. New items were developed to capture information on topics of emerging importance. Specifically, three new topics were added to the School Policy and Environment questionnaires: Physical school environment; crisis preparedness, response, and recovery; and school climate.

SHPPS 2006 will assess the characteristics of eight components of school health programs at the elementary, middle/junior, and senior high school levels: Health education, physical education, health services, mental health and social services, food service, school policy and environment, faculty and staff health promotion, and family and community involvement. SHPPS 2006 data will be used to provide measures for 16 Healthy People 2010 national health objectives. No other national source of data exists for these objectives. The data also will have significant implications for policy and program development for school health programs nationwide.

There are no direct costs to the respondents except for their time to participate in the survey. The total estimated annualized burden hours are 22,840.

Estimated Annualized Burden Table
Type of respondent | Questionnaire/activity | Number of respondents | Number of responses per respondent | Average burden per response (in hours)
Screening
State Officials | Recruitment Scripts | 51 | 1 | 40/60
District Officials (participants) | Recruitment Scripts | 652 | 1 | 40/60
District Officials (non-participants) | Recruitment Scripts | 116 | 1 | 1/60
School Officials (participants) | Recruitment Scripts | 1,120 | 1 | 30/60
School Officials (non-participants) | Recruitment Scripts | 280 | 1 | 1/60
Assistance Activities
State Officials | Assist with identifying state level respondents and with recruiting districts and schools | 51 |  | 20/60
District Officials | Assist with identifying district level respondents and with recruiting schools | 652 |  | 20/60
Principals, secretaries, or designees | Assist with identifying and scheduling school level respondents | 1,120 |  | 30/60
Surveys
State Officials | State Health Education | 51 | 1 | 50/60
State Officials | State Physical Education | 51 | 1 | 1
State Officials | State Health Services | 51 | 1 | 1
State Officials | State Food Service | 51 | 1 | 30/60
State Officials | State Questionnaire on School Policy and Environment | 51 | 1 | 45/60
State Officials | State Mental Health and Social Services | 51 | 1 | 25/60
State Officials | State Faculty and Staff Health Promotion | 51 | 1 | 20/60
District Officials | District Health Education | 652 | 1 | 50/60
District Officials | District Physical Education | 652 | 1 | 1
District Officials | District Health Services | 652 | 1 | 1.2
District Officials | District Food Service | 652 | 1 | 1
District Officials | District Questionnaire on School Policy and Environment | 652 | 1 | 1.5
District Officials | District Mental Health and Social Services | 652 | 1 | 35/60
District Officials | District Faculty and Staff Health Promotion | 652 | 1 | 25/60
Health education lead teachers, principals, or designees | School Health Education | 1,120 | 1 | 50/60
Physical education lead teachers, principals, or designees | School Physical Education | 1,120 | 1 | 1.9
School nurses, principals, or designees | School Health Services | 1,120 | 1 | 1.4
Food service managers, principals, or designees | School Food Service | 1,120 | 1 | 1.2
Principals or designee | School Policy and Environment | 1,120 | 1 | 2.5
Counselors, principals, or designees | School Mental Health and Social Services | 1,120 | 1 | 50/60
Principals or designees | School Faculty and Staff Health Promotion | 1,120 | 1 | 30/60
Health education teachers | Classroom Questionnaire on Health Education | 2,480 | 1 | 1.7
Physical education teachers | Classroom Questionnaire on Physical Education | 2,022 | 1 | 1

Dated: August 29, 2005.
Joan F. Karr,
Acting Reports Clearance Officer, Centers for Disease Control and Prevention.

[FR Doc. 05-17768 Filed 9-7-05; 8:45 am]

BILLING CODE 4163-18-P